Executive Order 13910 of March 23, 2020

Preventing Hoarding of Health and Medical Resources To Respond to the Spread of COVID-19

By the authority vested in me as President by the Constitution and the laws of the United States of America, including the Defense Production Act of 1950, as amended (50 U.S.C. 4501 et seq.) (the “Act”), and section 301 of title 3, United States Code, it is hereby ordered as follows:

Section 1. Policy. In Proclamation 9994 of March 13, 2020 (Declaring a National Emergency Concerning the Novel Coronavirus Disease (COVID-19) Outbreak), I declared a national emergency recognizing the threat that the novel (new) coronavirus known as SARS-CoV-2 poses to our Nation's healthcare systems. In recognizing the public health risk, I noted that on March 11, 2020, the World Health Organization announced that the outbreak of COVID-19 (the disease caused by SARS-CoV-2) can be characterized as a pandemic. I also noted that while the Federal Government, along with State and local governments, have taken preventive and proactive measures to slow the spread of the virus and to treat those affected, the spread of COVID-19 within our Nation's communities threatens to strain our Nation's healthcare systems. To further deal with this threat, on March 18, 2020, I issued Executive Order 13909 (Prioritizing and Allocating Health and Medical Resources to Respond to the Spread of COVID-19), in which I delegated to the Secretary of Health and Human Services (Secretary) the prioritization and allocation authority under section 101 of the Act with respect to health and medical resources needed to respond to the spread of COVID-19.

To ensure that our Nation's healthcare systems are able to surge capacity and capability to respond to the spread of COVID-19, it is the policy of the United States that health and medical resources needed to respond to the spread of COVID-19, such as personal protective equipment and sanitizing and disinfecting products, are not hoarded. Accordingly, I am delegating to the Secretary my authority under section 102 of the Act (50 U.S.C. 4512) to prevent hoarding of health and medical resources necessary to respond to the spread of COVID-19 within the United States. I am also delegating to the Secretary my authority under the Act to implement any restrictions on hoarding, including my authority under section 705 of the Act (50 U.S.C. 4555) to gather information, such as information about how supplies of such resources are distributed throughout the Nation.

Sec. 2. Delegation of Authority to Prevent Hoarding.

(a) The Secretary is delegated the following:

(i) the authority of the President conferred by section 102 of the Act to prevent hoarding of health and medical resources necessary to respond to the spread of COVID-19 within the United States, including the authority to prescribe conditions with respect to the accumulation of such resources, and to designate any material as a scarce material, or as a material the supply of which would be threatened by persons accumulating the material either in excess of reasonable demands of business, personal, or home consumption, or for the purpose of resale at prices in excess of prevailing market prices; and

(ii) the authority of the President to implement the Act contained in subchapter III of chapter 55 of title 50, United States Code (50 U.S.C. 4554, 4555, 4556, and 4560).

(b) In exercising the authority delegated under this section, the Secretary shall consult the Administrator of the Federal Emergency Management Agency.

(c) The Secretary shall adopt and revise appropriate rules and regulations as may be necessary to implement this order.

Sec. 3. Secretarial Duty Concerning Notices of Withdrawal of Designation. The Secretary shall periodically consider whether the designations made pursuant to section 2 of this order remain necessary. Upon finding that the need for such designation of material is no longer necessary, the Secretary shall promptly publish a notice of withdrawal of the designation in the Federal Register, and in such other manner as the Secretary deems appropriate.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 23, 2020.

[FR Doc. 2020-06478

Filed 3-25-20; 8:45 am]

Billing code 3295-F0-P